FEDERAL COMMUNICATIONS COMMISSION

47 CFR Part 64

Miscellaneous Rules Relating to Common Carriers

CFR Correction

In Title 47 of the Code of Federal Regulations, parts 40 to 69, revised as of October 1, 2003, on page 329, § 64.2400 paragraph (b) is corrected by removing “64.2001(a)(2), 64.2001(b), and 64.2001(c)”, and adding in its place “64.2401(a)(2), 64.2401(b), and 64.2401(c)”.

[FR Doc. 04-55512 Filed 6-22-04; 8:45 am]

BILLING CODE 1505-01-D